DEPARTMENT OF DEFENSE

Office of the Secretary

Defense Science Board

AGENCY: Department of Defense.

ACTION: Notice of advisory committee meeting date change.

SUMMARY: On Tuesday, February 1, 2005 (70 FR 5169) the Department of Defense announced open meetings of the Defense Science Board (DSB) Task Force on Manufacturing Technology. These meetings will now be closed to the public. Both meetings will be held at Strategic Analysis Inc., 3601 Wilson Boulevard, Suite 600, Arlington, VA.

Dated: March 7, 2005.
Jeannette Owings-Ballard,
OSD Federal Register Liaison Officer, Department of Defense.

[FR Doc. 05-4785 Filed 3-10-05; 8:45 am]

BILLING CODE 5001-06-M